FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 20, 2011.

A. Federal Reserve Bank of St. Louis (Glenda Wilson, Community Affairs Officer) P.O. Box 442, St. Louis, Missouri 63166-2034:

1. The Lawton Partners Trust, with Robert A. Lawton as trustee, Central City, Kentucky; to retain control of First United, Inc., and thereby indirectly retain control of First National Bank of Muhlenberg County, Kentucky, both in Central City, Kentucky.

B. Federal Reserve Bank of Kansas City (Dennis Denney, Assistant Vice President) 1 Memorial Drive, Kansas City, Missouri 64198-0001:

1. The O. Jay Tomson Revocable Trust, Ollie Jay Tomson, trustee, Mason City, Iowa; to retain control of FBHC Holding Company, and thereby indirectly retain control of Flatirons Bank, both in Boulder, Colorado.

Board of Governors of the Federal Reserve System, May 2, 2011.
Robert deV. Frierson,
Deputy Secretary of the Board.

[FR Doc. 2011-10968 Filed 5-4-11; 8:45 am]

BILLING CODE 6210-01-P